DEPARTMENT OF THE INTERIOR

National Park Service

National Register of Historic Places; Notification of Pending Nominations and Related Actions

Nominations for the following properties being considered for listing or related actions in the National Register were received by the National Park Service before September 17, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington, DC 20005; or by fax, (202) 371-6447. Written or faxed comments should be submitted by October 17, 2005.

Beth L. Savage,
Acting Chief, National Register/National Historic Landmarks Program.

COLORADO

Fremont County

South Canon High School, 1020 Park Ave., Canon City, 05001183

MISSOURI

Jackson County

Kansas City Police Station Number 4, (Railroad Related Historic Commercial and Industrial Resources in Kansas City, Missouri MPS), 115 W. 19th St., Kansas City, 05001184

OHIO

Fulton County

Goll Homestead, 26093 Township Rd. F, Archbold, 05001185

Hamilton County

Oesterlein Machine Company—Fashion Frocks, Inc. Complex, 3301 Colerain Av. and 1326 Monmouth Av., Cincinnati, 05001186

Stark County

Rochester Square Historic District, 6 & 10 Lintner Ct., NW.; 14, 207, 212, 222, 228 & 232 Center St., W., Navarre, 05001187

SOUTH DAKOTA

Deuel County

Hoffman Barn, 16937 482 Av., Revillo, 05001188

Hamlin County

First National Bank of Norden, 503 Main Av., Lake Norden, 05001189

Lawrence County

Saint Onge State Bank, 214 Center St., Saint Onge, 05001190

Tomahawk Lake Country Club, US 385, Deadwood, 05001191

TEXAS

Bell County

Temple Commercial Historic District, Roughly bounded by French Av., 3rd St., Av. D & 6th St., Temple, 05001192

Williamson County

Taylor Downtown Historic District, Roughly bounded by 5th, Washburn, 1st & Vance Sts., Taylor, 05001193

UTAH

Davis County

Bountiful Historic District, Roughly bounded by 200 W., 500 S., 400 E., & 400 N., Bountiful, 05001194

WISCONSIN

Price County

Wisconsin Concrete Park, WI 13 S., Worcester, 05001195

[FR Doc. 05-19524 Filed 9-29-05; 8:45 am]

BILLING CODE 4312-51-P